DEPARTMENT OF THE INTERIOR

National Park Service

[N6717; NPS-WASO-NAGPRA-NPS0041459; PPWOCRADN0-PCU00RP14.R50000]

Notice of Intended Repatriation: Concord Museum, Concord, MA

AGENCY: National Park Service, Interior.

ACTION: Notice.

SUMMARY: In accordance with the Native American Graves Protection and Repatriation Act (NAGPRA), the Concord Antiquarian Society, doing business as Concord Museum, intends to repatriate certain cultural items that meet the definition of unassociated funerary objects and that have a cultural affiliation with the Indian Tribes or Native Hawaiian organizations in this notice.

DATES: Repatriation of the cultural items in this notice may occur on or after January 20, 2026.

ADDRESSES: Send additional, written requests for repatriation of the cultural items in this notice to Jessica Desany, Concord Museum, 53 Cambridge Turnpike, Concord, MA 01742, email jdesany@concordmuseum.org.

SUPPLEMENTARY INFORMATION: This notice is published as part of the National Park Service's administrative responsibilities under NAGPRA. The determinations in this notice are the sole responsibility of the Concord Museum, and additional information on the determinations in this notice, including the results of consultation, can be found in the summary or related records. The National Park Service is not responsible for the determinations in this notice.

Abstract of Information Available

A total of 13 cultural items have been requested for repatriation. The 13 unassociated funerary objects are stone bifaces, a polished stone, and a box of red ochre. These 13 items were taken from the following locations in Maine by Benjamin Lincoln Smith (b.1900, d.1981), an amateur archaeologist, in the mid-19th century: the Hartford Barn site, Orland, Hancock County; Indian Island Cemetery, Old Town, Penobscot County; and in or around the Katahdin Iron Works, Piscataquis County. The Concord Museum records indicate no known hazardous substances.

Determinations

The Concord Museum has determined that:

• The 13 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Houlton Band of Maliseet Indians; Mi'kmaq Nation (previously listed as Aroostook Band of Micmacs); Passamaquoddy Tribe; Penobscot Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Concord Museum must determine the most appropriate requestor prior to repatriation. Requests for joint repatriation of the cultural items are considered a single request and not competing requests. The Concord Museum is responsible for sending a copy of this notice to the Indian Tribes and Native Hawaiian organizations identified in this notice and to any other consulting parties.

Authority: Native American Graves Protection and Repatriation Act, 25 U.S.C. 3004 and the implementing regulations, 43 CFR 10.9.

Dated: December 1, 2025
Melanie O'Brien,
Manager, National NAGPRA Program.

[FR Doc. 2025-23163 Filed 12-17-25; 8:45 am]

BILLING CODE 4312-52-P